INTERNATIONAL TRADE COMMISSION

[Investigation Nos. 701-TA-376, 377, & 379 and 731-TA-788-793 (Review)]

Certain Stainless Steel Plate From Belgium, Canada, Italy, Korea, South Africa, and Taiwan

Determinations

On the basis of the record ¹ developed in the subject five-year reviews, the United States International Trade Commission (Commission) determines, pursuant to section 751(c) of the Tariff Act of 1930 (19 U.S.C. 1675(c)) (the Act), that revocation of the countervailing duty orders on certain stainless steel plate from Belgium, Italy, and South Africa and that revocation of the antidumping duty orders on certain stainless steel plate from Belgium, Italy, Korea, South Africa, and Taiwan would be likely to lead to continuation or recurrence of material injury to an industry in the United States within a reasonably foreseeable time.² The Commission further determines, pursuant to section 751(c) of the Act, that revocation of the antidumping duty order on certain stainless steel plate from Canada would not be likely to lead to continuation or recurrence of material injury to an industry in the United States within a reasonably foreseeable time.³

¹ The record is defined in sec. 207.2(f) of the Commission's Rules of Practice and Procedure (19 CFR 207.2(f)).

² Vice Chairman Deanna Tanner Okun and Commissioners Jennifer A. Hillman and Daniel R. Pearson dissenting.

³ Chairman Stephen Koplan and Commissioner Charlotte R. Lane dissenting.

Background

The Commission instituted these reviews on April 1, 2004 (69 FR 17235) and determined on July 6, 2004 that it would conduct full reviews (69 FR 45076, July 28, 2004). Notice of the scheduling of the Commission's reviews and of a public hearing to be held in connection therewith was given by posting copies of the notice in the Office of the Secretary, U.S. International Trade Commission, Washington, DC, and by publishing the notice in the Federal Register on September 3, 2004 (69 FR 53946).⁴ The hearing was held in Washington, DC, on March 30, 2005, and all persons who requested the opportunity were permitted to appear in person or by counsel.

⁴ The revised schedule for the subject reviews was published on January 27, 2005 (70 FR 3944).

The Commission transmitted its determinations in these reviews to the Secretary of Commerce on June 21, 2005. The views of the Commission are contained in USITC Publication 3784 (June 2005), entitled Certain Stainless Steel Plate from Belgium, Canada, Italy, Korea, South Africa, and Taiwan: Investigations Nos. 701-TA-376, 377, & 379 and 731-TA-788-793 (Review).

Issued: June 28, 2005.
By order of the Commission.
Marilyn R. Abbott,
Secretary to the Commission.

[FR Doc. 05-13123 Filed 7-1-05; 8:45 am]

BILLING CODE 7020-02-P